ENVIRONMENTAL PROTECTION AGENCY

[EPA-HQ-ORD-2020-0675; FRL-8870-01-ORD]

Availability of the Draft IRIS Toxicological Review of Perfluorobutanoic Acid (PFBA) and Related Compound Ammonium Perfluorobutanoic Acid

AGENCY: Environmental Protection Agency (EPA).

ACTION: Notice of public comment period.

SUMMARY: The Environmental Protection Agency (EPA) is announcing a 60-day public comment period associated with release of the IRIS Toxicological Review of Perfluorobutanoic acid (PFBA) and Related Compound Ammonium Perfluorobutanoic Acid. The draft document was prepared by the Center for Public Health and Environmental Assessment (CPHEA) within EPA's Office of Research and Development (ORD). EPA is releasing this draft IRIS assessment for public comment in advance of a contract-led peer review. Public comments received will be provided to the external peer reviewers. Eastern Research Group, Inc. (ERG), a contractor to EPA, will convene a public meeting to discuss the draft report with the public during Step 4 of the IRIS Process. The external peer reviewers will consider public comments submitted in response to this notice and provided at the public meeting when reviewing this document. EPA will consider all comments received when revising the document post-peer review. This draft assessment is not final as described in EPA's information quality guidelines, and it does not represent, and should not be construed to represent Agency policy or views.

DATES: The 60-day public comment period begins August 23, 2021 and ends October 22, 2021. Comments must be received on or before October 22, 2021.

ADDRESSES: The IRIS Toxicological Review of Perfluorobutanoic acid (PFBA) and Related Compound Ammonium Perfluorobutanoic Acid will be available via the internet on the IRIS website at https://www.epa.gov/iris/iris-recent-additions and in the public docket at http://www.regulations.gov, Docket ID No. EPA-HQ-ORD-2020-0675.

FOR FURTHER INFORMATION CONTACT: For information on the public comment period, contact the ORD Docket at the EPA Headquarters Docket Center; telephone: 202-566-1752; facsimile: 202-566-9744; or email: Docket_ORD@epa.gov.

For technical information on the IRIS Toxicological Review of Perfluorobutanoic acid (PFBA) and Related Compound Ammonium Perfluorobutanoic Acid, contact Ms. Vicki Soto, CPHEA; telephone: 202-564-3077; or email: soto.vicki@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

SUPPLEMENTARY INFORMATION:

I. Information on IRIS PFAS Assessments

Per- and polyfluoroalkyl substances (PFAS) are a large class of man-made chemicals widely used in consumer products and industrial processes. The basic structure of PFAS consists of a carbon chain surrounded by fluorine atoms, with different chemicals possessing different end groups. The five toxicity assessments being developed according to the scope and methods outlined in the publicly posted systematic review protocol (https://cfpub.epa.gov/ncea/iris_drafts/recordisplay.cfm?deid=345065) build upon several other PFAS assessments that have already been developed, and represent only one component of the broader PFAS action plan underway at the U.S. EPA (https://www.epa.gov/pfas/epas-pfas-action-plan).

II. How To Submit Technical Comments to the Docket at http://www.regulations.gov

Submit your comments, identified by Docket ID No. EPA-HQ-ORD-2020-0675 for the draft IRIS Toxicological Review of Perfluorobutanoic acid (PFBA) and Related Compound Ammonium Perfluorobutanoic Acid, by one of the following methods:

• www.regulations.gov: Follow the on-line instructions for submitting comments.

• Email: Docket_ORD@epa.gov.

• Fax: 202-566-9744. Due to COVID-19, there may be a delay in processing comments submitted by fax.

• Mail: U.S. Environmental Protection Agency, EPA Docket Center (ORD Docket), Mail Code: 28221T, 1200 Pennsylvania Avenue NW, Washington, DC 20460. The phone number is 202-566-1752. Due to COVID-19, there may be a delay in processing comments submitted by mail.

Note: The EPA Docket Center and Reading Room may be closed to public visitors to reduce the risk of transmitting COVID-19. Docket Center staff will continue to provide remote customer service via email, phone, and webform. The public can submit comments via www.Regulations.gov or email. No hand deliveries are currently being accepted.

Instructions: Direct your comments to Docket ID No. EPA-HQ-ORD-2020-0675. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Timothy Watkins,
Acting Director, Center for Public Health & Environmental Assessment.

[FR Doc. 2021-18029 Filed 8-20-21; 8:45 am]

BILLING CODE 6560-50-P